DEPARTMENT OF THE INTERIOR

Bureau of Land Management

[WY-920-09-1320-EL, WYW176465]

Coal Lease Exploration License, WY

AGENCY: Bureau of Land Management, Interior.

ACTION: Notice of Invitation for Coal Exploration License, Bridger Coal Co., WYW176465, Wyoming.

SUMMARY: Pursuant to section 2(b) of the Mineral Leasing Act of 1920, as amended by section 4 of the Federal Coal Leasing Amendments Act of 1976, 90 Stat. 1083, 30 U.S.C. 201(b), and to the regulations adopted as 43 CFR 3410, all interested parties are hereby invited to participate with Bridger Coal Co. on a pro rata cost sharing basis in its program for the exploration of coal deposits owned by the United States of America in the following-described land in Sweetwater County, WY:

T. 21 N., R. 100 W., 6th P.M., Wyoming

Sec. 2: Lots 5-8, S½N½, S½;

Sec. 4: Lots 5-8, S½N½, S½;

Sec. 8: All;

Sec. 10: All;

Sec. 14: All;

Sec. 24: All;

T. 22 N., R. 100 W., 6th P.M., Wyoming

Sec. 28: All;

Sec. 32: All;

Sec. 34: All;

T. 22 N., R. 101 W., 6th P.M., Wyoming

Sec. 22: Lots 1-16;

Sec. 24: Lots 1-15, NW1/4NE1/4.

Containing 7050.90 acres, more or less.

DATES: Any party electing to participate in this exploration program must send written notice to both the Bureau of Land Management and Bridger Coal Co. as provided in the ADDRESSES section below, which must be received within 30 days after publication of this Notice of Invitation in the Federal Register.

ADDRESSES: Copies of the exploration plan are available for review during normal business hours in the following offices (serialized under number WYW176465): Bureau of Land Management, Wyoming State Office, 5353 Yellowstone Road, P.O. Box 1828, Cheyenne, WY 82003; and, Bureau of Land Management, Rock Springs Field Office, 280 Highway 191 North, Rock Springs, WY 82901. The written notice should be sent to the following addresses: Bridger Coal Co., c/o Interwest Mining Co., Attn: Scott M. Child, 1407 West North Temple, Suite 310, Salt Lake City, UT 84116, and the Bureau of Land Management, Wyoming State Office, Branch of Solid Minerals, Attn: Julie Weaver, P.O. Box 1828, Cheyenne, WY 82003.

SUPPLEMENTARY INFORMATION: All of the coal in the above-described land consists of unleased Federal coal within the Red Desert and Rock Springs Known Recoverable Coal Resource Areas. The purpose of the exploration program is to obtain information on the coal bearing seams and geological formations in addition to obtaining the following characteristics: coal quality, quantity, Btu content, percent ash, percent moisture, percent sulfur and percent sodium.

This notice of invitation will be published in Rocket-Miner of Rock Springs, WY once each week for two consecutive weeks beginning the week of June 30, 2008, and in the Federal Register.

The foregoing is published in the Federal Register pursuant to 43 CFR 3410.2-1(c)(1).

Dated: June 19, 2008.
Pamela J. Lewis,
Acting Deputy State Director, Minerals and Lands.

[FR Doc. E8-14473 Filed 6-26-08; 8:45 am]

BILLING CODE 4310-22-P